LIBRARY OF CONGRESS

Copyright Office

37 CFR Part 201

[Docket No. RM 99-7C]

Exemption to Prohibition on Circumvention of Copyright Protection Systems for Access Control Technologies

AGENCY: Copyright Office, Library of Congress.

ACTION: Announcement of change in time a hearing will begin.

SUMMARY: The Copyright Office of the Library of Congress announces a change in the time of a public hearing on the possible exemptions to the prohibition against circumvention of technological measures that control access to copyrighted works to be held in Stanford, California on May 18, 2000. The date and location of the hearing remain unchanged

DATES: May 4, 2000.

FOR FURTHER INFORMATION CONTACT: Robert Kasunic, Senior Attorney, Office of the General Counsel, Copyright GC/I&R, P.O. Box 70400, Southwest Station, Washington, D.C. 20024. Telephone: (202) 707-8380. Telefax: (202) 707-8366.

SUPPLEMENTARY INFORMATION: The Copyright Office is conducting a rulemaking pursuant to 17 U.S.C. 1201(a)(1), which provides that the Librarian of Congress may exempt certain classes of works from the prohibition against circumventing a technological measure that controls access to a copyrighted work. On March 17, 2000 (65 FR 14505), the Office published a notice which announced that public hearings relative to the rulemaking would be held in Washington, DC on May 2-4, 2000, and in Stanford, California on May 18 and 19, 2000. A schedule for all of the hearings can be found on the office's website at www.loc.gov/copyright/1201/hearing.html. The Stanford hearings were scheduled to be held from 9:30 a.m. to 6:00 p.m. The hearing on May 18, 2000, is now scheduled to begin at 2:00 p.m. rather than 9:30 a.m.

Dated: May 1, 2000.
Marilyn J. Kretsinger,
Assistant General Counsel.

[FR Doc. 00-11151 Filed 5-3-00; 8:45 am]

BILLING CODE 1410-30-P